DEPARTMENT OF ENERGY

Federal Energy Regulatory Commission

Combined Notice of Filings #1

Take notice that the Commission received the following electric corporate filings:

Docket Numbers: EC14-14-000

Applicants: NRG Energy Holdings, Inc., Edison Mission Energy

Description: Joint Application of NRG Energy Holdings Inc. et al. for Approval of Transaction under Section 203 of the Federal Power Act.

Filed Date: 10/25/13

Accession Number: 20131025-5066

Comments Due: 5 p.m. ET 11/15/13

Take notice that the Commission received the following electric rate filings:

Docket Numbers: ER10-3319-011

Applicants: Astoria Energy II LLC

Description: Notice of Non-Material Change in Status of Astoria Energy II LLC.

Filed Date: 10/24/13

Accession Number: 20131024-5112

Comments Due: 5 p.m. ET 11/14/13

Docket Numbers: ER13-2288-001

Applicants: AEP Texas Central Company

Description: TCC-TNC-South Texas Electric Cooperative Amd & Restated TSA to be effective 8/8/2013.

Filed Date: 10/25/13

Accession Number: 20131025-5039

Comments Due: 5 p.m. ET 11/15/13

Docket Numbers: ER13-2289-001

Applicants: AEP Texas North Company

Description: TCC-TNC-South Texas EC Amd & Restated TSA Concurrence to be effective 8/8/2013.

Filed Date: 10/25/13

Accession Number: 20131025-5041

Comments Due: 5 p.m. ET 11/15/13

Docket Numbers: ER13-2290-001

Applicants: AEP Texas Central Company

Description: TCC-TNC-Texas New Mexico Power Company ERCOT TSA to be effective 8/8/2013.

Filed Date: 10/25/13

Accession Number: 20131025-5037

Comments Due: 5 p.m. ET 11/15/13

Docket Numbers: ER13-2291-001

Applicants: AEP Texas North Company

Description: TCC-TNC-Texas New Mexico Power Company ERCOT TSA Concurrence to be effective 8/8/2013.

Filed Date: 10/25/13

Accession Number: 20131025-5036

Comments Due: 5 p.m. ET 11/15/13

Docket Numbers: ER14-171-000

Applicants: Pacific Gas and Electric Company

Description: CCSF IA—43rd Quarterly Filing of Facilities Agreements to be effective 9/30/2013.

Filed Date: 10/24/13

Accession Number: 20131024-5127

Comments Due: 5 p.m. ET 11/14/13

Docket Numbers: ER14-177-000

Applicants: AES Huntington Beach, L.L.C.

Description: Request for Approval of Extension of Contract Term to be effective 1/1/2014.

Filed Date: 10/24/13

Accession Number: 20131024-5088

Comments Due: 5 p.m. ET 11/14/13

Docket Numbers: ER14-178-000

Applicants: Public Service Company of New Mexico

Description: OATT Revision: Complete to be effective 10/28/2013.

Filed Date: 10/25/13

Accession Number: 20131025-5000

Comments Due: 5 p.m. ET 11/15/13

Docket Numbers: ER14-179-000

Applicants: Pacific Gas and Electric Company

Description: Notice of Termination of Pacific Gas and Electric Company Rate Schedule No. 187 Power Scheduling Agreement with M-S-R Public Power Agency.

Filed Date: 10/24/13

Accession Number: 20131024-5124

Comments Due: 5 p.m. ET 11/14/13

Docket Numbers: ER14-180-000

Applicants: New York State Electric & Gas Corporation

Description: Bath Fairview Attachment C Annual Update to be effective 1/1/2014.

Filed Date: 10/25/13

Accession Number: 20131025-5058

Comments Due: 5 p.m. ET 11/15/13

Docket Numbers: ER14-181-000

Applicants: New York State Electric & Gas Corporation

Description: NYSEG-DCEC Attachment C Annual update to be effective 1/1/2014.

Filed Date: 10/25/13

Accession Number: 20131025-5059

Comments Due: 5 p.m. ET 11/15/13

Docket Numbers: ER14-182-000

Applicants: Portland General Electric Company

Description: Portland General Electric Company submits Compliance Filing for Order No. 784 to be effective 12/27/2013.

Filed Date: 10/25/13

Accession Number: 20131025-5070

Comments Due: 5 p.m. ET 11/15/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2013.
Nathaniel J. Davis, Sr.,
Deputy Secretary.

[FR Doc. 2013-26094 Filed 10-31-13; 8:45 am]

BILLING CODE 6717-01-P